DEPARTMENT OF ENERGY

Federal Energy Regulatory Commission

[Project No. 2496]

Eugene Water and Electric Board; Notice of Meeting

April 14, 2003.

On Thursday, April 24, 2003, in Leaburg, Oregon, Commission staff will hold an informational meeting on current and future activities at the Leaburg Walterville Project, FERC No. 2496.

Commission staff will discuss the embankment clearing, the pending recreation plan, and other compliance filings. Eugene Water and Electric Board (EWEB) will provide information about its current compliance activities and the status of future compliance filings. Commission and EWEB staff will be available to answer questions.

The informational meeting will take place at the Leaburg, Oregon Community Center from 7-9:30 p.m. on April 24, 2003. All interested persons are encouraged to attend.

Please direct any questions about this meeting to Heather Campbell at 202-502-6182 or June Morgan 202-502-6001.

Magalie R. Salas,
Secretary.

[FR Doc. 03-9559 Filed 4-17-03; 8:45 am]

BILLING CODE 6717-01-P